DEPARTMENT OF STATE

[Public Notice 8373]

Bureau of Western Hemisphere Affairs, Executive Order 11423, as Amended; Notice of Receipt of Application for an Amendment to a Presidential Permit To Allow the Crossing of Non-Radioactive Hazardous Materials Across the World Trade Bridge in the City of Laredo, Texas

AGENCY: Department of State.

ACTION: Notice.

SUMMARY: The Department of State hereby gives notice that it has received an application for an amendment to the existing Presidential permit to allow the crossing of non-hazardous radioactive materials (HAZMAT) across the World Trade Bridge between the City of Laredo, Texas and Nuevo Laredo, Tamaulipas, Mexico. This application has been filed by the City of Laredo, the original permittee for the World Trade Bridge. A Presidential permit for the World Trade Bridge crossing was issued by the Department of State on October 7, 1994.

The Department of State's jurisdiction with respect to this application is based upon the International Bridge Act of 1972, 33 U.S.C. 535 et seq., and Executive Order 11423, dated August 16, 1968, as amended. The Department of State has determined that, under Executive Order 11423, an amended Presidential permit is required to allow the transit of HAZMATs as this constitutes a substantial change to the operations of the crossing as authorized by the existing Presidential permit.

As provided in E.O. 11423, the Department is circulating the City of Laredo's application, along with the EA, to concerned agencies for comment. Under E.O. 11423, the Department has the responsibility to determine, taking into account input from these agencies and other stakeholders, whether issuance of an amendment to the Presidential Permit would serve the national interest.

Interested members of the public are invited to submit written comments regarding this application on or before August 7, 2013 to MexicoCrossingComm@State.gov or to Peter Marigliano, Border Affairs Officer, WHA/MEX, HST Room 1329A, Department of State, 2201 C St. NW., Washington, DC 20520.

FOR FURTHER INFORMATION CONTACT: Peter Marigliano, Border Affairs Officer, WHA/MEX, HST Room 1329A, Department of State, 2201 C St. NW., Washington, DC 20520. Telephone: (202) 647-9895, email: WHA-BorderAffairs@state.gov.

SUPPLEMENTARY INFORMATION: The application and related documents are available for review in the Office of Mexican Affairs, Border Affairs Unit, Department of State, during normal business hours throughout the comment period. Any questions related to this notice may be addressed to Mr. Marigliano using the contact information above.

Dated: June 27, 2013.
Hugo F. Rodriguez,
Acting Director, Office of Mexican Affairs, Department of State.

[FR Doc. 2013-16333 Filed 7-5-13; 8:45 am]

BILLING CODE 4710-29-P